DEPARTMENT OF DEFENSE

Department of the Air Force

Proposed Collection; Comment Request

AGENCY: Department of the Air Force, DoD.

ACTION: Notice.

In compliance with section 3506(c)(2)(A) of the Paperwork Reduction Act of 1995, the United States Air Force Academy (USAFA), Office of the USAF Academy Admissions Liaison, announces the proposed reinstatement of a public information collection and seeks public comment on provisions thereof. Comments are invited on: (a) Whether the proposed collection of information is necessary for the proper performance of the functions of the agency, including whether the information shall have practical utility; (b) the accuracy of the agency's estimate of the burden of the proposed information collection; (c) ways to enhance the quality, unity, and clarity of the information to be collected; (d) ways to minimize the burden of the information collection on respondents, including through the use of automated collection techniques or other forms of information technology.

DATES: Consideration will be given to all comments received June 19, 2001.

ADDRESSES: Written comments and recommendations on the proposed information collection should be sent to Karen E. Parker, Director, Admissions Liaison, U.S. Air Force Academy Liaison Office, USAFA/CCL, Room 4C174, 1040 Air Force Pentagon, Washington, DC 20330-1040.

FOR FURTHER INFORMATION CONTACT: To request more information on this proposed information collection or to obtain a copy of the proposal and associated collection instruments, please write to above address.

Title, Associated Form, and OMB Number: Department of Defense (DD) Form 1870, “Nomination for Appointment to the United States Military Academy, Naval Academy and Air Force Academy,” OMB Number 0701-0026.

Needs and Uses: The information collection requirement is necessary in order to receive nominations from all Members of Congress, Vice President, Delegates to Congress, and the Governor and Resident Commissioner of Puerto Rico annually to each of the three service academies as legal nominating authorities. This information collection which results in appointments made to the academies is in compliance with 10 U.S.C. 4342, 6954, 9342 and 32 CFR 901.

Affected Public: Individuals and households.

Annual Burden Hours: 8,100.

Number of Respondents: 16,200.

Responses Per Respondent: 1.

Average Burden Per Response: 30 Minutes.

Frequency: One time annually.

SUPPLEMENTARY INFORMATION:

Summary of Information Collection

The DD Form 1870, “Nomination for Appointment to the United States Military Academy, Naval Academy and Air Force Academy,” is used solely by legal nominating authorities who by federal law are entitled to make appointments to the three service military academies. The form is used by all three service academies. The nomination form allows for nominating authorities to select by checking one box as to which academy is being provided with the name of a nominee. The completed form provides the required information for a nomination to be processed. Eligibility information concerning the nominees is information that is also included on the form. The nominating authority identifies himself/herself and must date and sign the form to make it a legally acceptable form. The form includes the three addresses of the service academies in order that the form may be returned to the proper academy.

Janet A. Long,
Air Force Federal Register Liaison Officer.

[FR Doc. 01-9775 Filed 4-19-01; 8:45 am]

BILLING CODE 5001-05-U